DEPARTMENT OF AGRICULTURE

Forest Service

Flathead National Forest, Montana; Revision of the Land Management Plan for the Flathead National Forest and an Amendment of the Helena, Kootenai, Lewis and Clark, and Lolo National Forest Plans To Incorporate Relevant Direction From the Northern Continental Divide Ecosystem Grizzly Bear Conservation Strategy

AGENCY: Forest Service, USDA.

ACTION: Notice of intent to prepare an environmental impact statement.

SUMMARY: As directed by the National Forest Management Act, the U.S. Department of Agriculture, Forest Service, is preparing the Flathead National Forest's revised land management plan (forest plan) and an amendment to provide relevant direction from the Northern Continental Divide Ecosystem (NCDE) Grizzly Bear Conservation Strategy into the forest plans for the Helena, Kootenai, Lewis and Clark and Lolo National Forests. The Forest Service will prepare a single environmental impact statement (EIS) for its revised forest plan and the amendment.

This notice briefly describes the proposed action based on the need to change the existing plans, the nature of the decision to be made, and information concerning public participation. This notice also provides estimated dates for filing the EIS, the name and address of the responsible agency officials, and the individuals who can provide additional information. Finally, this notice identifies the applicable planning rule that will be used for completing the plan revision and amendment.

The revised Flathead forest plan will supersede the existing forest plan that was approved by the Regional Forester in 1986, and amended more than 20 times since. The existing Flathead forest plan will remain in effect until the revised forest plan takes effect. The management direction pertaining to grizzly bear within the current forest plans of the Helena National Forest, approved by the Regional Forester in 1986; Kootenai National Forest, approved by the Regional Forester in 2015; Lewis and Clark National Forest, approved by the Regional Forester in 1986; and Lolo National Forest, approved by the Regional Forester in 1986, as amended, will remain in effect until the proposed amendment takes effect.

In response to this notice, we are asking for comments on the proposed action so we may refine the proposed action and identify possible alternatives to the proposed action.

DATES: Comments concerning the scope of the proposed action must be received by May 5, 2015. The draft EIS is expected in January 2016 and the final EIS is expected in June 2017.

ADDRESSES: Send or deliver written comments to the Flathead National Forest Supervisor's Office, Attn: Forest Plan Revision, 650 Wolfpack Way, Kalispell, Montana 59901. Comments may also be sent via email to flatheadplanrevision@fs.fed.us or via facsimile to (406) 758-5379. Further instructions for providing comments that will assist the planning team in reviewing comments can be found on the Flathead National Forest Web site www.fs.usda.gov/goto/flathead/fpr.

FOR FURTHER INFORMATION CONTACT: Joe Krueger, Forest Planner, Flathead National Forest, 650 Wolfpack Way, Kalispell, Montana 59901, (406) 758-5243, or at flatheadplanrevision@fs.fed.us. Information regarding the Flathead NF plan revision is available on the Forest's Plan Revision Web site at: www.fs.usda.gov/goto/flathead/fpr; information about the amendment is available at www.fs.usda.gov/goto/flathead/gbamend.

Individuals who use telecommunication devices for the deaf (TDD) may call the Federal Information Relay Service (FIRS) at 1-800-877-8339 between 8 a.m. and 8 p.m., Eastern Time, Monday through Friday.

SUPPLEMENTARY INFORMATION:

Proposed Action

The Forest Service is preparing the Flathead National Forest revised land management plan (forest plan) and an amendment to provide relevant direction from the North Continental Divide Ecosystem (NCDE) Grizzly Bear Conservation Strategy into the forest plans for the Helena, Kootenai, Lewis and Clark and Lolo National Forests. The full proposed action for the Flathead National Forest's revised forest plan includes forest-wide, geographic area, and management area desired conditions, objectives, standards, guidelines, and the suitability of lands for specific multiple uses, including, for example, those lands suitable for timber production. The proposed action includes estimates of the long-term sustained yield and planned sale quantity for the forest. The proposed action includes a description of the plan area's distinctive roles and contributions within the broader landscape, the identification of priority restoration watersheds, and suitability of national forest lands to support a variety of proposed and possible actions that may occur on the plan area over the life of the plan. The proposed action also identifies a monitoring program. The proposed action includes 188,206 acres to be recommended to Congress for inclusion in the National Wilderness Preservation System and 22 rivers for inclusion into the National Wild and Scenic Rivers System.

Need for Action

The need for the proposed action is twofold: (1) Significant changes have occurred in conditions and demands since the Flathead's 1986 Forest Plan and (2) to ensure the adequacy of regulatory mechanisms regarding habitat protection across the national forests in the NCDE in support of the de-listing of the grizzly bear. Several areas where changes are needed in the Flathead NF plan were brought to the forefront by the requirements of the 2012 Planning Rule for the National Forest System; findings from the development of the Assessment of the Flathead National Forest (a precursor document in the planning process that identified and evaluated the existing condition across the forest landscape); changes in conditions and demands since the 1986 Forest Plan; and public concerns to date.

The 2012 Planning Rule, which became effective May 9, 2012, requires inclusion of plan components, including standards or guidelines, that address social and economic sustainability, ecosystem services, and multiple uses integrated with the plan components for ecological sustainability and species diversity. Social and economic management direction is needed to provide people and communities with a range of social and economic benefits for present and future generations. As an example, since approval of the Flathead's 1986 Forest Plan, the role of timber harvest in meeting ecosystem management and social and economic objectives has changed. The 2012 Planning Rule requires the Forest to undertake a process to identify lands within the plan area for timber production suitability, and from this process, the Forest will develop plan components for lands suitable for timber production and for lands where timber harvest is appropriate for purposes other than timber production. To meet the Planning Rule's requirement to provide for ecological sustainability, management direction is needed that addresses ecosystem diversity (including key ecosystem characteristics and their integrity), in light of changes in climate, fuels, vegetation management strategies, and future environmental conditions. Revised plan components are needed that focus on maintaining or restoring vegetation and ecosystems to provide for species diversity including threatened and endangered species, species of conservation concern, and species of public interest. Additionally, comprehensive management direction is needed to address suitability of certain areas for particular uses, address access and sustainable recreation, provide for the management of existing and anticipated uses, as well as protect resources. During the plan revision process, the 2012 Planning Rule requires the Forest Service to undertake processes to identify and evaluate lands that may be suitable for inclusion on the National Wilderness Preservation System and identify eligible rivers for inclusion into the National Wild and Scenic Rivers System.

Under the Endangered Species Act of 1973, federal agencies are directed to use their authorities to seek to conserve endangered and threatened species. The Canada lynx was listed as a threatened species in 2000. Since that time, the Flathead Forest Plan has been amended with the Northern Rockies Lynx Management Direction (USDA FS 2007), the USFWS designated and updated Canada lynx critical habitat (USDI FWS 2009, 2014), and the Lynx Conservation and Assessment Strategy has been updated (Lynx Biology Team 2013). Thus, the Forest Plan needs to integrate recent and relevant information for Canada lynx to its plan.

Habitat conditions and management on the Flathead, Helena, Kootenai, Lewis and Clark, and Lolo National Forests have contributed importantly to the increased population size and improved status of the grizzly bear across the NCDE. Supporting a healthy, recovered grizzly bear population will depend on continued, effective management of the NCDE grizzly bear's habitat. In 2013, the U.S. Fish and Wildlife Service's announced the availability of a draft Grizzly Bear Conservation Strategy for the NCDE population for public review and input. When finalized, the Grizzly Bear Conservation Strategy will become the post-delisting management plan for the NCDE grizzly bear population and its habitat. By providing relevant direction from the NCDE Grizzly Bear Conservation Strategy into forest plans, the Forest Service will be able to demonstrate to the U.S. Fish and Wildlife Service that adequate regulatory mechanisms exist on national forests within the NCDE to support a delisted grizzly bear population. Under the transition provisions of the 2012 Forest Planning Rule (36 CFR 219.17), an amendment to a plan that was approved or revised under a prior planning regulation, may be initiated under the provisions of the prior planning regulation for 3 years after May 9, 2012, and may be completed and approved under those provisions (36 CFR 219.17 (b)(2)). The proposal is to amend the Helena, Kootenai, Lewis and Clark and Lolo National Forest plans under the 1982 planning regulations in effect prior to November 9, 2000 (see 36 CFR parts 200 to 299, Revised as of July 1, 2000). Thus, under the transition provisions of the 2012 Forest Planning Rule, the Forest Service has the opportunity to carry out the amendments concurrently with the Flathead forest plan revision. The Flathead planning team, in addition to conducting the plan revision, is coordinating the National Environmental Policy Act (NEPA) effort for the amendment with the Kootenai, Lolo, Lewis and Clark and Helena National Forests to ensure that adequate regulatory mechanisms for habitat protections specific to the de-listing of the grizzly bear is consistent on National Forest System lands throughout the NCDE. Finally, public participation through scoping may identify other needs for change that will be considered during the plan revision.

Public Involvment for the Flathead Plan Revision

The Flathead National Forest began public participation when developing the Assessment of the Flathead National Forest. To facilitate local participation, the Forest contracted with the U.S. Institute for Environmental Conflict Resolution in 2012 to develop a collaborative stakeholder engagement process. The Institute conducted assessments with Forest Service employees and a representative group of key stakeholders to determine their willingness to engage in a collaborative process convened by a neutral, third party. The Meridian Institute was selected to serve in that capacity and facilitated numerous topical work groups, an interagency group, and meetings to bring together all work groups and interested citizens. Also, as part of the public involvement process, the Forest Service led field trips and held open house sessions to discuss existing information and trends related to a variety of conditions found on the forest. The information acquired from the public involvement process was used to help develop the Flathead NF forest plan revision proposed action.

Responsible Officials

The responsible official who will approve the Record of Decision for the Flathead NF revised forest plan is Sharon Labreque, Acting Forest Supervisor for the Flathead National Forest, 650 Wolfpack Way, Kalispell, MT 59901, (406) 758-5208. The responsible officials who will approve the Record of Decision for the Amendment are: William Avey, Forest Supervisor for the Helena and Lewis and Clark National Forests Supervisor's Office, 2880 Skyway Drive, Helena, MT 59602, (406) 449-5201; Christopher S. Savage, Forest Supervisor for the Kootenai National Forest, 31374 U.S. Highway 2, Libby, MT 59923-3022, (406) 293-6211; and Timothy Garcia, Forest Supervisor for the Lolo National Forest, 24 Fort Missoula Road, Missoula, MT 59803, (406) 329-3750.

Nature of Decision To Be Made

For the Flathead forest plan revision, the responsible official will decide whether the required plan components (desired conditions, objectives, standards, guidelines) are sufficient to promote the ecological integrity and sustainability of the Flathead National Forest's ecosystems, watersheds, and diverse plant and animal communities. In addition, the responsible official will decide if the plan provides sufficient management guidance to contribute to social and economic sustainability, to provide people and communities with ecosystem services and multiple uses including a range of social, economic, and ecological benefits for the present and into the future. Standards, guidelines, and other direction related to conservation of threatened and endangered species, (e.g., the Canada lynx, grizzly bear, bull trout, and water howellia) will be evaluated for the Flathead National Forest in the EIS.

For the amendment component of the proposed action, the responsible officials will decide whether desired conditions, standards, guidelines, and monitoring requirements relevant to national forest grizzly bear habitat management in the NCDE are necessary and appropriate to amend the Helena, Lewis and Clark, Kootenai, and Lolo forest plans. The Kootenai National Forest Plan spans two grizzly bear ecosystems and the Lolo National Forest Plan spans three. The proposed action applies only to the NCDE. No changes in forest plan direction are being considered within the Cabinet-Yaak or Bitterroot recovery areas.

This proposed action is programmatic in nature and guides future implementation of site-specific projects. Additional NEPA compliance would be required for site-specific projects as part of a two-stage decision making process (Council of Environmental Quality regulations for implementing NEPA; 40 CFR 1508.23, 42 U.S.C. 4322(2)(C)), 36 CFR 219.7(f)).

Scoping Process

This notice of intent initiates the scoping process, which guides the development of the EIS. We are seeking your input to continue to develop the Flathead NF revised plan and for NCDE grizzly bear habitat management for the four amendment forests. In addition to requesting comments specific to the Flathead NF proposed action, we are also seeking comments regarding the potential list of species of conservation concern, the identified recommended wilderness acres and eligible wild and scenic rivers, as well as other significant issues.

The following community meetings are planned to provide additional information and address questions related to the revision and amendment proposed action:

• March 17, 2015, 5:30-7:30 p.m., Flathead National Forest Supervisors Office, 650 Wolfpack Way, Kalispell, MT 59901.

• March 19, 2015, 5:30-7:30 p.m., Riverstone Family Lodge, 6370 US Hwy 93N, Eureka, MT 59917.

• April 7, 2015, 5:30-7:30 p.m., Seeley Lake Community Center, Seely Lake, MT 59868.

• April 8, 2015, 5:30-7:30 p.m., Fort Missoula Pavilion, Missoula, MT 59804.

• April 9, 2015, 5:30-7:30 p.m., Superior Ranger Station Conference Room, Superior, MT 59872.

• April 14, 2015, 5:30-7:30 p.m., Lincoln Community Hall, 404 Main St., Lincoln, MT 59639.

• April 15, 2015, 5:30-7:30 p.m., Stage Stop Inn, 1005 Main Ave. North, Choteau, MT 59422.

Changes to the meeting schedule will be communicated on the Flathead Forest Plan revision Web page at www.fs.usda.gov/goto/flathead/fpr, as well as the amendment Web site at www.fs.usda.gov/goto/flathead/gbamend.

It is important that reviewers provide their comments at such times and in such manner that they are useful to the agency's preparation of the EIS. Therefore, comments should be provided prior to the close of the comment period and should clearly articulate the reviewer's concerns and contentions. Comments received in response to this solicitation, including names and addresses of those who comment, will be part of the public record for this proposed action.

Decision Will Be Subject to Objection

Only those individuals and entities who have submitted substantive formal comments related to the Flathead NF plan revision and the four amendments during the opportunities provided for public comment (beginning with this NOI), will be eligible to file an objection (36 CFR 219.53(a)). The decision to approve the revised forest plan for the Flathead National Forest and the amendment for the Helena, Lewis and Clark, Kootenai, and Lolo National Forests will be subject to the objection process identified in 36 CFR part 219 subpart B (219.50 to 219.62).

Documents Available for Review

The Flathead National Forest plan revision Web site (www.fs.usda.gov/goto/flathead/fpr) provides the full text of the proposed action, describing preliminary desired conditions, objectives, standards, guidelines, and other plan content; the 2014 Assessment; summaries of the public meetings and public meeting materials; and public comments. The forest plan amendment component of the proposed action for the Helena, Kootenai, Lewis and Clark, and Lolo National Forests is located at www.fs.usda.gov/goto/flathead/gbamend, which can be linked from the individual Forest's Web sites as well. The material available on these sites may be updated or revised at any time as part of the planning process.

The 2012 Planning Rule is explained in more detail on the Forest Service's Web site at http://www.fs.usda.gov/detail/planningrule/home/?cid=stelprdb5359471. The draft NCDE Grizzly Bear Conservation Strategy is currently available on the U.S. Fish and Wildlife Service's Web site at http://www.fws.gov/mountain-prairie/species/mammals/grizzly/continentalindex.html.

Dated: February 26, 2015.
Sharon Labreque,
Acting Forest Supervisor, Flathead NF.

[FR Doc. 2015-05054 Filed 3-5-15; 8:45 am]

BILLING CODE 3411-15-P